DEPARTMENT OF THE INTERIOR

Office of Natural Resources Revenue

30 CFR Part 1206

[Docket No. ONRR-2011-0007]

Indian Oil Valuation Negotiated Rulemaking Committee

AGENCY: Office of Natural Resources Revenue, Interior.

ACTION: Notice of meeting.

SUMMARY: The Office of Natural Resources Revenue (ONRR) announces additional meetings for the Indian Oil Valuation Negotiated Rulemaking Committee (Committee). The third through sixth meetings of the Committee will take place on August 1 and 2, September 5 and 6, October 24 and 25, and December 11 and 12, 2012, in Building 85 of the Denver Federal Center. The Committee membership includes representatives from Indian tribes, individual Indian mineral owner organizations, minerals industry representatives, and other Federal bureaus. The public will have the opportunity to comment between 3:45 p.m. and 4:45 p.m. Mountain Time on August 1, 2012; September 5, 2012; October 24, 2012; and December 11, 2012.

DATES: Wednesday and Thursday, August 1 and 2, 2012; Wednesday and Thursday, September 5 and 6, 2012; Wednesday and Thursday, October 24 and 25, 2012; and Tuesday and Wednesday, December 11 and 12, 2012. All meetings will run from 8:30 a.m. to 5:00 p.m. Mountain Time for all dates.

ADDRESSES: ONRR will hold the meetings at the Denver Federal Center, 6th Ave and Kipling, Bldg. 85 Auditorium, Lakewood, CO 80225.

FOR FURTHER INFORMATION CONTACT: Mr. Karl Wunderlich, ONRR, at (303) 231-3663; or (303) 231-3744 via fax; or via email karl.wunderlich@onrr.gov.

SUPPLEMENTARY INFORMATION: ONRR formed the Committee on December 8, 2011, to develop specific recommendations regarding proposed revisions to the existing regulations for oil production from Indian leases, especially the major portion requirement. The Committee includes representatives of parties that the final rule will affect. It will act solely in an advisory capacity to ONRR and will neither exercise program management responsibility nor make decisions directly affecting the matters on which it provides advice.

Meetings are open to the public without advanced registration on a space-available basis. Minutes of this meeting will be available for public inspection and copying at our offices in Building 85 on the Denver Federal Center in Lakewood, Colorado, or are available at www.onrr.gov/Laws_R_D/IONR. ONRR conducts these meetings under the authority of the Federal Advisory Committee Act (Pub. L. 92-463, 5 U.S.C., Appendix 2, Section 1 et seq.).

Dated: July 12, 2012.
Gregory J. Gould,
Director, Office of Natural Resources Revenue.

[FR Doc. 2012-17511 Filed 7-17-12; 8:45 am]

BILLING CODE 4310-T2-P